DEPARTMENT OF DEFENSE

Department of the Army; Corps of Engineers

Notice of Availability for the Final Environmental Impact Statement for the Proposed Widening of the Pascagoula Lower Sound/Bayou Casotte Channel, Jackson County, MS

AGENCY: Department of the Army, U.S. Army Corps of Engineers, DoD

ACTION: Notice of availability.

SUMMARY: On April 6, 2011, the Jackson County Port Authority (JCPA) submitted a joint application to the U.S. Army Corps of Engineers (Corps), Mobile District, Mississippi Department of Environmental Quality (MDEQ) and the Mississippi Department of Marine Resources (MDMR) for authorization to impact wetlands and other waters of the United States associated with the proposed widening of the Pascagoula Lower Sound/Bayou Casotte Channel (the proposed project). The proposed project is located in the Pascagoula Lower Sound/Bayou Casotte, Pascagoula, Jackson County, Mississippi (Latitude 30.365° North, Longitude 88.556° West). The Corps prepared a Draft Environmental Impact Statement (DEIS) to assess the potential environmental impacts associated with the proposed project and to promote informed decision-making by appropriate agencies; the DEIS was released April 13, 2012. The Corps is now publishing a Final Environmental Impact Statement (FEIS) to assess the potential environmental impacts associated with the proposed project. The proposed project is the dredging of approximately 38,200 feet (7.2 miles) of the existing Pascagoula Lower Sound/Bayou Casotte Channel segment to widen the channel from the Federally authorized width of 350 feet and depth of −42 feet mean lower low water (MLLW) (with 2 feet of allowable over-depth and 2 feet of advanced maintenance) to a width of 450 feet, parallel to the existing channel centerline and to the existing Federally authorized depth of −42 feet MLLW. The proposed project would include the placement of approximately 3.4 million cubic yards of dredged material resulting from the channel modification.

DATES: The Corps invites the public to comment on the Final EIS during the public comment period, which ends September 25, 2012. The Corps will consider all comments postmarked or received during the public comment period in preparing the Record of Decision and will consider late comments to the extent practicable.

Additional information on how to submit comments is included below.

FOR FURTHER INFORMATION CONTACT: Written and emailed comments to the Corps will be received until September 25, 2012. Correspondence concerning this Notice should refer to Public Notice Number SAM-2011-00389-PAH and should be directed to the U.S. Army Engineer District, RD-C-M Attention: Mr. Philip Hegji, Post Office Box 2288, Mobile, Alabama 36628-0001, via email at philip.a.hegji@usace.army.mil or by phone at (251) 690-3222. We encourage any additional comments from interested public, agencies and local officials. For additional information about our Regulatory Program, please visit our Web site at www.sam.usace.army.mil/rd/reg/.

SUPPLEMENTARY INFORMATION: The JCPA requested a Department of the Army permit pursuant to Section 10 of the Rivers and Harbors Act of 1899, Section 103 of the Marine Protection, Research and Sanctuaries Act and Section 404 of the Clean Water Act, including a Section 404(b)(1) analysis to help ensure compliance. The Corps is the lead Federal agency for the preparation of this FEIS in compliance with the requirements of the National Environmental Policy Act (NEPA) and the President's Council on Environmental Quality regulations for implementing NEPA. The National Marine Fisheries Service and the U.S. Coast Guard are cooperating agencies for the preparation of the EIS.

Dated: August 15, 2012.
Craig J. Litteken,
Chief, Regulatory Division.

[FR Doc. 2012-20942 Filed 8-23-12; 8:45 am]

BILLING CODE 3720-58-P